DEPARTMENT OF TRANSPORTATION

Surface Transportation Board

Agency Information Collection Activities: Proposed Collection(s); Comment Request

AGENCY: Surface Transportation Board, Transportation.

ACTION: 60-day notice and request for comments.

SUMMARY: The Surface Transportation Board (Board), as part of its continuing effort to reduce paperwork burdens, invites comment on the information collection(s) described below, as required by the Paperwork Reduction Act of 1995, 44 U.S.C. Chapter 35 (PRA). Under the PRA, a Federal agency conducting or sponsoring a collection of information must display a currently valid Office of Management and Budget (OMB) control number. “Collection of information” is defined in 44 U.S.C. 3502(3) and 5 CFR 1320.3(c) and includes agency requirements that persons submit reports, keep records, or provide information to the agency, third parties, or the public. Under 44 U.S.C. 3506(c)(2)(A), Federal agencies are required to provide a 60-day notice in the Federal Register concerning each proposed collection of information, including each proposed extension of an existing collection of information, before submitting the collection to OMB for approval. The Board is publishing this notice to comply with this requirement. We should note that OMB control numbers were obtained in the past for six of the seven collections of information that are the subject of this notice. Comments are requested concerning: (1) Whether the particular collections of information described below are necessary for the proper performance of the functions of the Board, including whether the collections have practical utility; (2) the accuracy of the Board's burden estimates; (3) ways to enhance the quality, utility and clarity of the information collected; and (4) ways to minimize the burden of the collection of information on the respondents, including the use of automated collection techniques or other forms of information technology, when appropriate.

DATES: Written comments are due on December 24, 2002.

ADDRESSES: Written comments (an original plus 1 copy) should be identified as Paperwork Reduction Act Comments, refer to the title of the specific collection(s) commented upon and be sent to: Anne K. Quinlan, Surface Transportation Board, 1925 K Street, NW, Washington, DC 20423-0001.

FOR FURTHER INFORMATION CONTACT: For additional information or copies of the information collection(s) contact Anne K. Quinlan, (202) 565-1727. [Federal Information Relay Service (FIRS) for the hearing impaired: (800) 877-8339.]

SUPPLEMENTARY INFORMATION:

Collection Number 1

OMB Control Number: 2140-XXXX.

Title: Class I Railroad Annual Report.

Form number: R1.

Type of review: Reinstatement, without change, of a previously approved collection for which OMB control number has expired.

Respondents: Class I railroads.

Number of respondents: Fewer than 10.

Estimated time per response: 800 hours, based on information provided by the railroad industry during the 1990's. This estimate includes time spent reviewing instructions; searching existing data sources; gathering and maintaining the data needed; completing and reviewing the collection of information; and converting the data from the carrier's individual accounting system to the Board's Uniform System of Accounts (USOA), see 49 U.S.C. 11141-43, 11161-64, 49 CFR 1200-1201, for presentation in the R-1 format for consistency of information across all reporting railroads. It is possible that the time required to produce this report is overstated, given the advances in computerized data collection and processing systems.

Frequency of response: Annual.

Total annual hour burden: Less than 8,000 hours annually.

Total annual “non-hour burden” cost: We have identified no “non-hour cost” burdens associated with this collection.

Needs and uses: Annual reports are required to be filed by Class I railroads under 49 U.S.C. 11145. The reports show operating expenses of the carriers, including those for right-of-way and structures, equipment, train and yard operations and general and administrative expenses. The reports are used by the Board, other Federal agencies and industry groups to monitor and assess railroad industry growth, financial stability, traffic and operations and to identify industry changes that may affect national transportation policy. Information from this report is also entered into the Board Uniform Rail Costing System (URCS), which is a cost measurement methodology. URCS was developed by the Board pursuant to 49 U.S.C. 11161 and is used as a tool in rail rate proceedings to calculate the variable costs associated with providing a particular service in accordance with 49 U.S.C. 10107(d).

The Board uses data from the reports to more effectively carry out its regulatory responsibilities, including acting on railroad requests for authority to engage in Board-regulated financial transactions such as mergers, acquisitions of control, consolidations and abandonments; developing the Uniform Rail Costing System (URCS); conducting rail revenue adequacy proceedings; developing rail cost adjustment factors; and conducting investigations and rulemakings.

Information from certain schedules contained in the reports that are filed is compiled and published on the Board's Web site, http://www.stb.dot.gov. Information in these reports is not available from any other source.

Collection Number 2

OMB Control Number: 2140-XXXX.

Title: Quarterly Report of Revenues, Expenses and Income—Railroads (Form RE&I).

Form number: None.

Type of review: Reinstatement, without change, of a previously approved collection for which OMB control number has expired.

Respondents: Class I railroads.

Number of respondents: Fewer than 10.

Estimated time per response: 6 hours.

Frequency of response: Quarterly.

Total annual hour burden: Less than 240 hours annually.

Total annual “non-hour burden” cost: We have identified no “non-hour cost” burdens associated with this collection.

Needs and uses: This collection is a report of railroad operating revenues, operating expenses and income items; it is a profit and loss statement. See 49 CFR 1243.1. It discloses net railway operating income on a quarterly and year-to-date basis for the current and prior year. The Board uses the information in this report to ensure competitive, efficient and safe transportation through general oversight programs that monitor and forecast the financial and operating condition of railroads, and through regulation of railroad rate and service issues and rail restructuring proposals, including railroad mergers, consolidations, acquisitions of control and abandonments. Information from the reports is used by the Board, other Federal agencies and industry groups to monitor and assess industry growth and operations, detect changes in carrier financial stability, and identify trends that may affect the national transportation system. Information from these reports is compiled by the Board and published on its Web site, http://www.stb.dot.gov. The information contained in these reports is not available from any other source.

Collection Number 3

OMB Control Number: 2140-XXXX.

Title: Quarterly Condensed Balance Sheet—Railroads (Form CBS).

Form number: None.

Type of review: Reinstatement, without change, of a previously approved collection for which OMB control number has expired.

Respondents: Class I railroads.

Number of respondents: Fewer than 10.

Estimated time per response: 6 hours.

Frequency of response: Quarterly.

Total annual hour burden: Less than 240 hours annually.

Total annual “non-hour burden” cost: We have identified no “non-hour cost” burdens associated with this collection.

Needs and uses: This collection shows the balance at the end of each quarter, for the current and prior year, of the carrier's assets and liabilities; quarterly and cumulative for the current and prior year, the carrier's gross capital expenditures; and quarterly and cumulative for the current and prior year, the carrier's revenue tons carried. See 49 CFR 1243.2. The Board uses the information in this report to ensure competitive, efficient and safe transportation through general oversight programs that monitor and forecast the financial and operating condition of railroads, and through specific regulation of railroad rate and service issues and rail restructuring proposals, including railroad mergers, consolidations, acquisitions of control and abandonments. Information from the reports is used by the Board, other Federal agencies and industry groups to assess industry growth and operations, detect changes in carrier financial stability and identify trends that may affect the National Transportation System. Information from these reports is compiled by the Board and published on its Web site, http://www.stb.dot.gov. The information contained in these reports is not available from any other source.

Collection Number 4

OMB Control Number: 2140-XXXX.

Title: Report of Railroad Employees, Service and Compensation—Wage Forms A and B.

Form number: None.

Type of review: Reinstatement, without change, of a previously approved collection for which OMB control number has expired.

Respondents: Class I railroads.

Number of respondents: Fewer than 10.

Estimated time per response: 107 hours, based on information provided by the railroad industry during the 1990's. It is possible that the time required to collect this information is overstated given the advances in computerized data collection and processing systems.

Frequency of response: Quarterly, with an annual summation.

Total annual hour burden: Less than 4,280 hours annually.

Total annual “non-hour burden” cost: We have identified no “non-hour cost” burdens associated with this collection.

Needs and uses: This collection shows the number of employees, service hours and compensation, by employee group (executive, professional, maintenance-of-way and equipment and transportation), of the reporting railroads. See 49 CFR 1245. The information is used by the Board to forecast labor costs and measure the efficiency of the reporting railroads. The information also is used by the Board to evaluate proposed regulated transactions that may impact rail employees, including mergers and consolidations, acquisitions of control, purchases and abandonments. Other Federal agencies and industry groups, including the Railroad Retirement Board, Bureau of Labor Statistics and Association of American Railroads, depend on the information contained in the reports to monitor railroad operations. Certain information from the reports is compiled and published on the Board's Web site, http://www.stb.dot.gov. The information contained in the reports is not available from any other source.

Collection Number 5

OMB Control Number: 2140-XXXX.

Title: Monthly Report of Number of Employees of Class I Railroads.

Form number: STB Form 350.

Type of review: Reinstatement, without change, of a previously approved collection for which OMB control number has expired.

Respondents: Class I railroads.

Number of respondents: Fewer than 10.

Estimated time per response: 1.25 hours.

Frequency of response: Monthly.

Total annual hour burden: Less than 150 hours annually.

Total annual “non-hour burden” cost: We have identified no “non-hour cost” burdens associated with this collection.

Needs and uses: This collection shows, for each reporting carrier, the average number of employees at mid-month in the six job classification groups that encompass all railroad employees. See 49 CFR 1246. The information is used by the Board to forecast labor costs and measure the efficiency of the reporting railroads. The information also is used by the Board to evaluate proposed regulated transactions that may impact rail employees, including mergers and consolidations, acquisitions of control, purchases and abandonments. Other Federal agencies and industry groups, including the Railroad Retirement Board, Bureau of Labor Statistics and Association of American Railroads, depend on the information contained in the reports to monitor railroad operations. Certain information from the reports is compiled and published on the Board's Web site, http://www.stb.dot.gov. The information contained in the reports is not available from any other source.

Collection Number 6

OMB Control Number: 2140-XXXX.

Title: Annual Report of Cars Loaded and Cars Terminated.

Form number: Form STB-54.

Type of review: Existing collection in use without an OMB control number.

Respondents: Class I railroads.

Number of respondents: Fewer than 10.

Estimated time per response: 4 hours.

Frequency of response: Annual.

Total annual hour burden: Less than 40 hours annually.

Total annual “non-hour burden” cost: We have identified no “non-hour cost” burdens associated with this collection.

Needs and uses: This collection reports the number of cars loaded and cars terminated on the reporting carrier's line. See 49 CFR 1247. Information in this report is entered into the Board's Uniform Rail Costing System (URCS), which is a cost measurement methodology. URCS was developed by the Board pursuant to 49 U.S.C. 11161 and is used as a tool in rail rate proceedings to calculate the variable costs associated with providing a particular service in accordance with 49 U.S.C. 10707(d). The Board also uses URCS to analyze the information that it obtains through the annual railroad industry waybill sample, see 49 CFR 1244, and in railroad abandonment proceedings to measure off-branch costs in accordance with 49 CFR 1152.32(n). There is no other source for the information contained in this report.

Collection Number 7

OMB Control Number: 2140-XXXX.

Title: Quarterly Report of Freight Commodity Statistics (Form QCS).

Form number: None.

Type of review: Reinstatement, without change, of a previously approved collection for which OMB control number has expired.

Respondents: Class I railroads.

Number of respondents: Fewer than 10.

Estimated time per response: 217 hours.

Frequency of response: Quarterly, with an annual summation.

Total annual hour burden: Less than 8,680 hours annually.

Total annual “non-hour burden” cost: We have identified no “non-hour cost” burdens associated with this collection.

Needs and uses: This collection, which is based on information contained in waybills used by railroads in the ordinary course of business, reports car loadings and total revenues by commodity code for each commodity that moved on the railroad during the reporting period. See 49 CFR 1248. Information in this report is entered into the Uniform Rail Costing System (URCS), which is a cost-measurement methodology. URCS was developed by the Board pursuant to 49 U.S.C. 11161 and is used in rail rate proceedings as a tool to calculate the variable costs of providing a particular rail service in accordance with 49 U.S.C. 10707(d). The Board also uses URCS to analyze the information that it obtains though the annual railroad waybill sample and in railroad abandonment proceedings to measure off-branch costs in accordance with 49 CFR 1152.32(n). There is no other source for the information contained in this report.

Dated: October 18, 2002.
Vernon A. Williams,
Secretary.

[FR Doc. 02-27216 Filed 10-24-02; 8:45 am]

BILLING CODE 4915-00-P